ENVIRONMENTAL PROTECTION AGENCY

[EPA-HQ-OAR-2003-0162, FRL-8195-5]

Agency Information Collection Activities; Submission to OMB for Review and Approval; Comment Request; Information Collection Request for Proposed Regional Haze Regulations (Renewal); EPA ICR No. 1813.06, OMB Control No. 2060-0421

AGENCY: Environmental Protection Agency.

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before August 10, 2006.

ADDRESSES: Submit your comments, referencing Docket ID No. EPA-HQ-OAR-2003-0162, to (1) EPA online using http://www.regulations.gov (our preferred method), by e-mail to a-and-r-ddocket@epa.gov or by mail to: EPA Docket Center, Environmental Protection Agency, OAR Docket, Mail Code B102, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Kathy Kaufman, U.S. EPA, Office of Air Quality Planning and Standards, Air Quality Policy Division, Mail Code C539-02, Research Triangle Park, NC; telephone number: (919) 541-541-0102; fax number: (919) 541-4589; e-mail address: kaufman.kathy@epa.gov.

SUPPLEMENTARY INFORMATION: EPA has submitted the following ICR to OMB for review and approval according to the procedures prescribed in 5 CFR 1320.12. On March 13, 2006 (71 FR 12696), EPA sought comments on this ICR pursuant to 5 CFR 1320.8(d). EPA received no comments. Any additional comments on this ICR should be submitted to EPA and OMB within 30 days of this notice.

EPA has established a public docket for this ICR under Docket ID No. EPA-HQ-OAR-2003-0162, which is available for online viewing at http://www.regulations.gov, or in person viewing at the OAR Docket in the EPA Docket Center (EPA/DC), EPA West, Room B102, 1301 Constitution Ave., NW., Washington, DC. The EPA/DC Public Reading Room is open from 8 a.m. to 4:30 p.m., Monday through Friday, excluding legal holidays. The telephone number for the Reading Room is 202-566-1744, and the telephone number for the Air and Radiation Center is 202-566-1742.

Use EPA's electronic docket and comment system at http://www.regulations.gov to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Information Collection Request for Proposed Regional Haze Regulations (Renewal).

ICR numbers: EPA ICR No.1813.06, OMB Control No. 2060-0421.

ICR Status: This ICR is scheduled to expire on July 31, 2006. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR parts 9.

Abstract: This ICR is for activities related to the implementation of EPA's 1999 regional haze rule, for the time period between August 1, 2006 and July 31, 2009. This ICR renews the previous ICR, which addressed the second three year time period after the rule was promulgated. The regional haze rule, as authorized by sections 169A and 169B of the Clean Air Act, requires States to develop implementation plans to protect visibility in 156 federally-protected Class I areas. Tribes may choose to develop implementation plans. For this time period, States will be conducting technical analyses in support of development of reasonable progress goals and strategies for regional haze, as required by the rule. EPA has encouraged States to work together in regional planning organizations to develop and implement multi-state strategies.

Burden Statement: The annual public reporting and recordkeeping burden for this collection of information is estimated to average 38 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: The major categories of respondents directly affected include the States, Tribes, and Federal land managers (FLMs). The States and, if they so choose, the Tribes will develop an implementation plan under 40 CFR 51.308. In addition Western States have the option of developing Regional Haze strategies for SO2 emissions under 40 CFR 51.309.

In addition, during this ICR renewal period, other entities, at the discretion of the States and Tribes, may respond to a request of the States or Tribes to fulfill obligations of the 1999 Regional Haze Rule. For example, there may be private sector respondents in particular Standard Industrial Classification (SIC) and North American Industrial Classification System (NAICS) Codes and production process categories that are asked to assess and determine if they are BART eligible sources and make a preliminary BART determination.¹

¹

Sources that are part of categories listed in the Clean Air Act (section 169A) and emitting more than 250 tons per year and constructed during the August 1962 to August 1977 time period are BART eligible.

The FLMs will work as partners with the RPOs from the perspective of Class I area land managers. Their policy focus will be on prescribed fire policy, and quantification of reasonable progress goals. On the technical side, they will assess air quality monitoring data and work with the RPOs and EPA to determine impacts on visibility in their Class I areas and natural background conditions.

Estimated Number of Respondents: 860.

Frequency of Response: Annual.

Estimated Total Annual Hour Burden: 32,551.

Estimated Total Annual Cost: $1,856.000, which includes $0 annualized capital startup costs, $0 annual O&M Costs, and $1,856,000 annual labor costs.

Changes in the Estimates: There is a decrease of 24,054 hours in the total estimated hourly burden and in the cost burden of $657,383 currently identified in the OMB Inventory of Approved ICR Burdens. This decrease in burden is a program adjustment, reflecting changes in labor rates, changes in the activities conducted due to the normal progression of the program, and better information regarding the numbers of respondents and the fact that the role of industrial respondents is increasing as the program moves from the planning stages to the implementation stages.

Dated: June 23, 2006.
Oscar Morales,
Director, Collection Strategies Division.

[FR Doc. E6-10843 Filed 7-10-06; 8:45 am]

BILLING CODE 6560-50-P